ENVIRONMENTAL PROTECTION AGENCY

[ER-FRL-6688-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070055, ERP No. D-AFS-L65534-ID, Idaho Cobalt Project, Development of Two Underground Mines, a Waste Disposal Site and Associated Facilities, Approval of Plan-of-Operation, Salmon-Cobalt Ranger District, Salmon-Challis National Forest, Lemhi County, ID.

Summary: EPA expressed environmental concerns about the impacts to fishery and cultural resources and impacts related to contaminated soils. Rating EC2.

EIS No. 20070103, ERP No. D-FHW-C50015-NY, Kosciuszko Bridge Project, Proposed Rehabilitation or Replacement a 1.1 mile Segment Brooklyn-Queens Expressway (-278) from Morgan Avenue in Brooklyn and the Long Island Expressway (1495) in Queens, Kings and Queens Counties, NY.

Summary: EPA expressed environmental concerns about potential air quality impacts, and requested additional information and mitigation. Rating EC2.

EIS No. 20070132, ERP No. D-AFS-J61111-00, Yellowstone and Grand Teton National Parks and the John D. Rockefeller, Jr. Memorial Parkway, Winter Use Plan, To Provide a Framework for Managing Winter Use Activities, Implementation, Fremont County, ID, Gallatin and Park Counties, MT Park and Teton Counties, WY.

Summary: EPA expressed environmental concerns about air quality, natural soundscapes, and wildlife. EPA believes that the preferred alternative should be modified or a different alternative should be selected that meets the National Park Service's adaptive management thresholds and its resource protection directives. Rating EC2.

EIS No. 20070171, ERP No. D-FRC-K03030-00, Phoenix Expansion Project, Construction and Operation of Existing Natural Gas Transmission Pipeline, Right-of-Way Grant and Temporary Use Permit, San Juan and McKinley Counties, NM and Pinal and Maricopa Counties, AZ.

Summary: EPA expressed environmental concerns about potential impacts to air quality, aquatic resources, and endangered species. EPA recommended that the FEIS provide additional information regarding alternatives and identify, and commit to, opportunities for minimizing impacts. Rating EC2.

EIS No. 20070172, ERP No. D-FRC-G03035-00, Southeast Supply Header Project, Construction and Operation of Natural Gas Pipeline Facilities, Located in various Counties and Parishes in LA, MS and AL.

Summary: EPA expressed environmental concerns about potential impacts to wetlands and air quality, and recommended additional analyses to be included in the Final EIS. Rating EC2.

EIS No. 20070174, ERP No. D-BPA-L91029-WA, Chief Joseph Hatchery Program, Construction, Operation and Maintenance of a Chinook Salmon Hatchery Production Program, Confederated Tribes of the Colville Reservation (Colville Tribes), Okanogan River and Columbia River, Okanogan County, WA.

Summary: EPA expressed environmental concerns about discharge water quality and requested additional information regarding the applicability of state and tribal water quality standards. Rating EC2.

EIS No. 20070051, ERP No. DS-COE-E32070-MS, Gulfport Harbor Navigation Channel Project, Updated Information on Providing Safe and Unrestricted Navigation into and out of Gulfport Harbor, Harrison County, MS.

Summary: EPA expressed environmental concerns about impacts to biological resources. EPA requested additional information to ensure that the dredged material to be disposed meets the relevant Ocean Dumping Criteria. Rating EC2.

Final EISs

EIS No. 20070087, ERP No. F-FTA-E40775-FL, Miami North Corridor Project, Build Alternative is Selected, Transit Improvement between NW 62 Street at Dr. Martin Luther King Jr. Station and NW 215th Street at the Dade/Broward Counties Line, Funding, Dade County, FL.

Summary: EPA continues to express environmental concerns about noise impact, EJ impacts and impacts related to contaminated sites. EPA requested that additional mitigation be discussed in the ROD.

EIS No. 20070191, ERP No. F-FAA-G11049-NM, ADOPTION—New Mexico Training Initiative, Proposal to Modify the Training Airspace New Cannon Air Force Base (AFB), NM.

Summary: No formal comment letter was sent to the preparing agency.

EIS No. 20070192, ERP No. F-AFS-G65095-NM, Buckman Water Diversion Project, Proposal to Divert Water from Rio Grande and San Juan-Chama Project, To Meet Water Supply Needs, Sante Fe National Forest and Taos Field Office, Sante Fe County, NM.

Summary: No formal comment letter was sent to the preparing agency.

EIS No. 20070193, ERP No. FS-FAA-G11048-00, ADOPTION—Realistic Bomber Training Initiative, Addresses Impacts of Wake Vortices on Surface Structures, Dyess Air Force Base, TX and Barksdale Air Force Base, LA.

Summary: No formal comment letter was sent to the preparing agency.

Dated: June 26, 2007.
Ken Mittelholtz,
Environmental Protection Specialist, Office of Federal Activities.

[FR Doc. E7-12651 Filed 6-28-07; 8:45 am]

BILLING CODE 6560-50-P